ENVIRONMENTAL PROTECTION AGENCY

40 CFR Part 141

[FRL-9232-01-OW]

The National Drinking Water Advisory Council Microbial and Disinfection Byproducts Rule Revisions Working Group: Request for Nominations

AGENCY: Environmental Protection Agency (EPA).

ACTION: Request for nominations.

SUMMARY: The Environmental Protection Agency (EPA) is requesting that the National Drinking Water Advisory Council (NDWAC or Council), a Federal Advisory Committee established under the Safe Drinking Water Act of 1974, provide the agency with advice and recommendations on key issues related to potential revisions to the following Microbial and Disinfection Byproducts (MDBP) rules: Stage 1 and Stage 2 Disinfectants and Disinfection Byproducts Rules, Surface Water Treatment Rule, Interim Enhanced Surface Water Treatment Rule, and Long-Term 1 Enhanced Surface Water Treatment Rule. EPA is seeking consensus advice from the NDWAC, which would be used to inform the development of potential rule revisions. To support the work of the Council, EPA is asking the NDWAC to form a working group, to be called the Microbial and Disinfection Byproducts Rule Revisions Working Group, that would include stakeholders with a variety of backgrounds and expertise. The working group would explore specific issues and identify potential MDBP rule revisions options for the Council to consider in making its recommendations to EPA. This announcement solicits nominations of qualified individuals to serve on the working group. EPA anticipates the working group would be active approximately from Spring 2022 through mid-2023.

DATES: Nominations should be submitted no later than December 13, 2021 per the instructions below.

ADDRESSES: Please submit nominations and supporting information electronically, with the subject line “NDWAC MDBP Working Group” to MDBPRevisions@epa.gov, as there may be a delay in processing U.S. mail and no hand deliveries are currently accepted due to the COVID-19 pandemic. If you have concerns about submitting your nomination electronically, you may contact Elizabeth Corr, the Designated Federal Official (DFO) for the NDWAC, by email at corr.elizabeth@epa.gov, with the subject line “NDWAC MDBP Working Group,” or by phone at (202) 564-3798 to discuss a possible alternative delivery method. For more information on submitting nominations, go to the SUPPLEMENTARY INFORMATION section of this document.

For more information on the MDBP Rule Revisions Working Group, including specific charge to the Council and working group formation information, visit: https://www.epa.gov/ndwac.

FOR FURTHER INFORMATION CONTACT: Any member of the public wishing further information regarding this announcement and request for nominations may contact Elizabeth Corr at corr.elizabeth@epa.gov; or by phone at (202) 564-3798. You may also mail Elizabeth Corr at the Office of Ground Water and Drinking Water, MC: 4601M, Environmental Protection Agency, 1200 Pennsylvania Avenue NW, Washington, DC 20460, but be advised that there may be a delay in processing U.S. mail and no hand deliveries will be accepted due to the COVID-19 pandemic. Further information on the NDWAC can be found at: https://www.epa.gov/ndwac. For more information about the MDBP rule revisions visit: www.epa.gov/dwsixyearreview/revisions-microbial-and-disinfection-byproducts-rules.

SUPPLEMENTARY INFORMATION: Working Group Nominations: EPA seeks perspectives from state officials and tribal officials, drinking water system operators from systems of all sizes, and environmental and public interest representatives. Any interested person and/or organization may nominate qualified individuals for possible working group participation. Interested individuals may self-nominate. EPA values and welcomes diversity. All qualified individuals are encouraged to apply regardless of sex, race, disability, or ethnicity. Nominations should be submitted in time to arrive no later than December 13, 2021.

EPA will consider all nominations. Criteria to be used in evaluating nominees includes:

• Demonstrated experience with drinking water issues at the national, state, or local levels, particularly with knowledge of the MDPB rules;

• Excellent interpersonal, oral, and written communication and consensus-building skills;

• Willingness to commit time to the working group and demonstrated ability to work constructively on committees; and

• Background that would help members contribute to the diversity of expertise, experience, and perspectives on the working group, e.g., geographic, economic, social, cultural, educational backgrounds, professional affiliations, and other considerations.

Nominations must include a resume that provides the nominee's background, experience, and educational qualifications, and a brief statement (one page or less) describing the nominee's interest in serving on the working group and addressing the other criteria previously described. EPA encourages nominees to provide any additional information that may be useful for consideration, such as their availability to participate as a member of the working group, and how the nominee's background, skills, and experience would contribute to the diversity of the working group. Nominees should be identified by name, occupation, position, current business address, email address, and telephone number. The DFO will use the email address provided for the nominee to acknowledge receipt of nominations.

EPA anticipates that most or all meetings of the working group would be held virtually. Individuals selected to serve on the working group may be offered travel expenses and per diem to attend any in-person meetings.

NDWAC: Congress created the Council on December 16, 1974, as part of the Safe Drinking Water Act of 1974, Public Law 93-523, 42 U.S.C. 300j-5. The Council is operated in accordance with the provisions of the Federal Advisory Committee Act (FACA), 5 U.S.C. App. 2. The Council consists of 15 members, including the chairperson, all of whom are appointed by the EPA Administrator. Five members are from appropriate state and local agencies concerned with water hygiene and public water supply; five members represent private organizations or groups demonstrating an active interest in the field of water hygiene and public water supply—of which two such members shall be associated with small, rural public water systems; and five members are from the general public.

MDBP Rules: On January 11, 2017 (40 FR 141; January 11, 2017) EPA identified eight contaminants covered by the MDBP rules as candidates for revision in the agency's review of existing national primary drinking water regulations (NPDWRs): Chlorite, Cryptosporidium, Haloacetic acids, Heterotrophic bacteria, Giardia lamblia, Legionella, Total Trihalomethanes, and viruses. The eight contaminants are included in the following MDBP rules: Stage 1 and Stage 2 Disinfectants and Disinfection Byproducts Rules, Surface Water Treatment Rule, Interim Enhanced Surface Water Treatment Rule, and Long-Term 1 Enhanced Surface Water Treatment Rule. The purpose of the Surface Water Treatment Rules (SWTRs) identified as candidates for revision is to reduce disease incidence associated with pathogens and viruses in drinking water. The SWTRs require public water systems to filter and disinfect surface water sources to provide protection from microbial pathogens. The purpose of the Stage 1 and Stage 2 Disinfectants and Disinfection Byproducts Rules is to reduce drinking water exposure to disinfection byproducts which can form in water when disinfectants used to control microbial pathogens react with natural organic matter found in source water. If consumed in excess of EPA's standard over many years, disinfection byproducts may increase health risks.

Jennifer L. McLain,
Director, Office of Ground Water and Drinking Water.

[FR Doc. 2021-24795 Filed 11-10-21; 8:45 am]

BILLING CODE 6560-50-P